DEPARTMENT OF ENERGY

Federal Energy Regulatory Commission

Combined Notice of Filings #1

Take notice that the Commission received the following electric rate filings:

Docket Numbers: ER09-1641-000; ER25-3346-000.

Applicants: Idaho Power Company, Idaho Power Company.

Description: Informational Filing of 2025-2026 Formula Rate Annual Update of Idaho Power Company.

Filed Date: 8/28/25.

Accession Number: 20250828-5279.

Comment Date: 5 p.m. ET 9/18/25.

Docket Numbers: ER24-2745-000.

Applicants: Huck Finn Solar, LLC.

Description: Supplement to 08/09/2024, Huck Finn Solar, LLC tariff filing.

Filed Date: 8/28/25.

Accession Number: 20250828-5278.

Comment Date: 5 p.m. ET 9/8/25.

Docket Numbers: ER25-2833-001.

Applicants: PacifiCorp.

Description: Tariff Amendment: Response to Deficiency Letter, Request for Shortened Comment Period, and Request to be effective 9/9/2025.

Filed Date: 8/28/25.

Accession Number: 20250828-5236.

Comment Date: 5 p.m. ET 9/18/25.

Docket Numbers: ER25-3124-001.

Applicants: Dairyland Power Cooperative, MRP Elgin LLC, MRP Rocky Road LLC.

Description: Supplement to Petition for Prospective Waiver, Expedited Action and Shortened Notice Period of Dairyland Power Cooperative.

Filed Date: 8/27/25.

Accession Number: 20250827-5184.

Comment Date: 5 p.m. ET 9/8/25.

Docket Numbers: ER25-3336-000.

Applicants: Eldorado Solar Project II, LLC.

Description: 205(d) Rate Filing: Eldorado Solar Project II Revised MBR Tariff to be effective 10/28/2025.

Filed Date: 8/28/25.

Accession Number: 20250828-5209.

Comment Date: 5 p.m. ET 9/18/25.

Docket Numbers: ER25-3337-000.

Applicants: Sol InfraCo MT3, LLC.

Description: 205(d) Rate Filing: Sol InfraCo MT3 Revised MBR Tariff to be effective 10/28/2025.

Filed Date: 8/28/25.

Accession Number: 20250828-5214.

Comment Date: 5 p.m. ET 9/18/25.

Docket Numbers: ER25-3338-000.

Applicants: Tilden Solar, LLC.

Description: 205(d) Rate Filing: Tilden Solar Revised MBR Tariff to be effective 10/28/2025.

Filed Date: 8/28/25.

Accession Number: 20250828-5216.

Comment Date: 5 p.m. ET 9/18/25.

Docket Numbers: ER25-3339-000.

Applicants: Morgantown Power, LLC.

Description: Request for Limited Waiver and Request for Shortened Comment Period of Morgantown Power.

Filed Date: 8/28/25.

Accession Number: 20250828-5229.

Comment Date: 5 p.m. ET 9/11/25.

Docket Numbers: ER25-3340-000.

Applicants: SunZia Transmission, LLC.

Description: 205(d) Rate Filing: Service Agreement No. 3—Amended & Restated LGIA with SunZia Wind South & CAISO to be effective 12/31/9998.

Filed Date: 8/28/25.

Accession Number: 20250828-5256.

Comment Date: 5 p.m. ET 9/18/25.

Docket Numbers: ER25-3341-000.

Applicants: SunZia Transmission, LLC.

Description: 205(d) Rate Filing: Service Agreement No. 4—Amended & Restated LGIA with SunZia Wind North & CAISO to be effective 12/31/9998.

Filed Date: 8/28/25.

Accession Number: 20250828-5258.

Comment Date: 5 p.m. ET 9/18/25.

Docket Numbers: ER25-3342-000.

Applicants: New England Power Pool Participants Committee.

Description: 205(d) Rate Filing: Sep 2025 Membership Filing to be effective 9/1/2025.

Filed Date: 8/29/25.

Accession Number: 20250829-5007.

Comment Date: 5 p.m. ET 9/19/25.

Docket Numbers: ER25-3343-000.

Applicants: New York Transco, LLC, New York Independent System Operator, Inc.

Description: Tariff Amendment: New York Independent System Operator, Inc. submits tariff filing per 35.15: NY Transco Ntc of Cnclltn: EPCA among NY Transco, Castleton, & NYISO SA2615 to be effective 10/29/2025.

Filed Date: 8/29/25.

Accession Number: 20250829-5035.

Comment Date: 5 p.m. ET 9/19/25.

Docket Numbers: ER25-3344-000.

Applicants: Mid-Atlantic Interstate Transmission, LLC.

Description: 205(d) Rate Filing: MAIT submits Amnded Construction Agmnts, SA No. 7173, 7177 to be effective 10/29/2025.

Filed Date: 8/29/25.

Accession Number: 20250829-5075.

Comment Date: 5 p.m. ET 9/19/25.

Docket Numbers: ER25-3345-000.

Applicants: Wisconsin Electric Power Company.

Description: 205(d) Rate Filing: Formula Rate Update Filing for 2024 Rate Year to be effective 9/1/2025.

Filed Date: 8/29/25.

Accession Number: 20250829-5087.

Comment Date: 5 p.m. ET 9/19/25.

Docket Numbers: ER25-3347-000.

Applicants: Duke Energy Progress, LLC, Duke Energy Carolinas, LLC.

Description: 205(d) Rate Filing: Duke Energy Carolinas, LLC submits tariff filing per 35.13(a)(2)(iii: DEC-DEP Attachment K to Joint OATT (LGIP/LGIA), Ministerial Clean-Up Filing to be effective 11/1/2025.

Filed Date: 8/29/25.

Accession Number: 20250829-5103.

Comment Date: 5 p.m. ET 9/19/25.

Docket Numbers: ER25-3348-000.

Applicants: Alabama Power Company, Georgia Power Company, Mississippi Power Company.

Description: 205(d) Rate Filing: Alabama Power Company submits tariff filing per 35.13(a)(2)(iii: Attachment S (GPCO) Filing of Updated Depreciation Rates to be effective 1/1/2026.

Filed Date: 8/29/25.

Accession Number: 20250829-5109.

Comment Date: 5 p.m. ET 9/19/25.

Docket Numbers: ER25-3349-000.

Applicants: City of Riverside, California.

Description: 205(d) Rate Filing: City of Riverside, Cal. TO Tariff and TRR Revisions to be effective 9/1/2025.

Filed Date: 8/29/25.

Accession Number: 20250829-5120.

Comment Date: 5 p.m. ET 9/19/25.

Docket Numbers: ER25-3350-000.

Applicants: Idaho Power Company.

Description: 205(d) Rate Filing: Revised Exhibit D to be effective 9/1/2025.

Filed Date: 8/29/25.

Accession Number: 20250829-5130.

Comment Date: 5 p.m. ET 9/19/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: August 29, 2025.
Debbie-Anne A. Reese,
Secretary.

[FR Doc. 2025-16951 Filed 9-3-25; 8:45 am]

BILLING CODE 6717-01-P